ENVIRONMENTAL PROTECTION AGENCY

40 CFR Part 52

EPA-R09-OAR-2021-0408; FRL-8902-03-R9]

Clean Air Plans; Base Year Emissions Inventories for the 2015 Ozone Standards; California; Extension of Comment Period

AGENCY: Environmental Protection Agency (EPA).

ACTION: Proposed rule; Extension of comment period.

SUMMARY: The Environmental Protection Agency (EPA) is extending the comment period for the proposed rule “Clean Air Plans; Base Year Emissions Inventories for the 2015 Ozone Standards; California.” The agency is extending the comment period for 30 days in response to a stakeholder request for an extension. Thirty days from November 4, 2021, is December 4, 2021, which is a Saturday; therefore, the EPA is extending the comment period to the following Monday, December 6, 2021.

DATES: The comment period for the proposed rule published on October 5, 2021, at 86 FR 54887, is extended. Comments must be received on or before December 6, 2021.

ADDRESSES: Submit your comments, identified by Docket ID No. EPA-R09-OAR-2021-0408 at https://www.regulations.gov. For comments submitted at Regulations.gov, follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit https://www.epa.gov/dockets/commenting-epa-dockets. If you need assistance in a language other than English or if you are a person with disabilities who needs a reasonable accommodation at no cost to you, please contact the person identified in the FOR FURTHER INFORMATION CONTACT section.

FOR FURTHER INFORMATION CONTACT: Khoi Nguyen, Air Planning Office (AIR-2), EPA Region IX, 75 Hawthorne Street, San Francisco, CA 94105, (415) 947-4120, or by email at nguyen.khoi@epa.gov.

SUPPLEMENTARY INFORMATION: On October 5, 2021 (86 FR 54887), the EPA published the proposed rule “Clean Air Plans; Base Year Emissions Inventories for the 2015 Ozone Standards; California” in the Federal Register. The original deadline to submit comments was November 4, 2021. This action extends the comment period for 30 days. Written comments must now be received by December 6, 2021.

Dated: October 21, 2021.
Deborah Jordan,
Acting Regional Administrator, Region IX.

[FR Doc. 2021-23370 Filed 10-27-21; 8:45 am]

BILLING CODE 6560-50-P